DEPARTMENT OF TRANSPORTATION

Federal Aviation Administration

Notice of Intent To Rule on a Land Release Request at Spadaro Airport (1N2), East Moriches, NY

AGENCY: Federal Aviation Administration (FAA), DOT.

ACTION: Notice of request to release airport land for disposal and request for comment.

SUMMARY: The FAA proposes to rule and invites public comment on the application for a release for disposal of approximately 22.4 acres of federally obligated airport property at Spadaro Airport, East Moriches, Suffolk, NY, to accommodate the construction of a residential development. This acreage was originally purchased with federal financial assistance through the AIP program under Grant Agreements 3-36-0228-02-1997 and 3-36-0228-03-1998.

DATES: Comments must be received on or before May 8, 2019.

FOR FURTHER INFORMATION CONTACT: Comments on this application may be mailed or delivered to the FAA at the following address: Evelyn Martinez, Manager, Federal Aviation Administration, New York Airports District Office, Federal Register Comment, 1 Aviation Plaza, Jamaica, NY 11434.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by surplus property conveyance deeds or grant agreements. The following is a brief overview of the request.

On November 9, 2011, the sponsor of Spadaro Airport sold approximately 22.4 acres of airport property, acquired with federal financial assistance, to a local developer. The release of this land is being sought so as to enable the local developer to construct a residential development consisting of a retirement community. Although this acreage was acquired for the purpose of airport development, it has been determined that it is highly unlikely that this acreage could be used for such purpose due to local zoning laws. Nevertheless, given that the acreage was acquired with federal financial assistance the portion of the proceeds of the sale of this acreage which is proportionate to the United States' share of the cost of the acquisition of the land ($1,260,000) will be provided to the FAA for deposit in the Airport and Airway Trust Fund. Due to local zoning laws aircraft operations at Spadaro Airport have been suspended since 2016. Even if aircraft operations at Spadaro Airport were to resume, however, the proposed use of the property will not interfere with the airport or its operation.

Issued in Jamaica, New York, on April 2, 2019.
Evelyn Martinez,
Manager, New York Airports District Office.

[FR Doc. 2019-06880 Filed 4-5-19; 8:45 am]

BILLING CODE 4910-13-P